Title 3—

The President

Proclamation 10121 of November 25, 2020

Thanksgiving Day, 2020

By the President of the United States of America

A Proclamation

On Thanksgiving Day, we thank God for the abundant blessings in our lives. As we gather with family and friends to celebrate this season of generosity, hope, and gratitude, we commemorate America's founding traditions of faith, family, and friendship, and give thanks for the principles of freedom, liberty, and democracy that make our country exceptional in the history of the world.

This November marks 400 years since the Mayflower and its passengers faced the unknown and set sail across the Atlantic Ocean. Propelled by hope for a brighter future, these intrepid men and women endured two long months at sea, tired and hungry, to arrive in a new world full of potential. In the winter weather that greeted their arrival, they lost nearly half of their fellow travelers to exposure, disease, and starvation. Despite unimaginable hardships, these first Americans nevertheless remained firm in their faith and unwavering in their commitment to their dreams. They forged friendships with the Wampanoag Tribe, fostered a spirit of common purpose among themselves, and trusted in God to provide for them. The following year, they celebrated a successful harvest alongside their Native American neighbors—the first Thanksgiving. This seminal event in the history of our Nation is a continual reminder of the power of faith, love, perseverance, prayer, and fellowship.

The Mayflower's arrival to the New World in 1620 also marks the arrival of the first seeds of democracy to our land. Absent the rule of a monarch in an uncharted wilderness, these early settlers resolved to create their own government through what is known as the Mayflower Compact. Defined by majority rule through elected leaders responsible for creating “just and equal laws,” the Mayflower Compact represents the first chapter in the long tradition of self-determination and rule of law in America. One hundred and fifty-six years later, our Nation's Founding Fathers resolved to break free from England, building upon the Mayflower Compact to establish an enduring government whose authority came solely “from the consent of the governed.”

This year, as our Nation continues to combat the coronavirus pandemic, we have once again joined together to overcome the challenges facing us. In the midst of suffering and loss, we are witnessing the remarkable courage and boundless generosity of the American people as they come to the aid of those in need, reflecting the spirit of those first settlers who worked together to meet the needs of their community. First responders, medical professionals, essential workers, neighbors, and countless other patriots have served and sacrificed for their fellow Americans, and the prayers of our people have once again lifted up our Nation, providing comfort, healing, and strength during times of uncertainty. Despite unprecedented challenges, we have not faltered in the face of adversity. To the contrary, we have leveraged our strengths to make significant breakthroughs that will end this crisis, rebuilding our stockpiles, revamping our manufacturing capabilities, and developing groundbreaking therapeutics and life-saving vaccines on record-shattering timeframes.

During this season of gratitude, we also acknowledge those who cannot be with their families. This includes the brave American patriots of our Armed Forces who selflessly defend our sacred liberty at home and abroad. And we pause to remember the sacrifices of our law enforcement personnel and first responders. We are deeply grateful for all those who remain on watch over the holidays and keep us safe as we celebrate and give thanks for the blessings in our lives.

This Thanksgiving, we reaffirm our everlasting gratitude for all that we enjoy, and we commemorate the legacy of generosity bestowed upon us by our forbearers. Although challenges remain, we will never yield in our quest to live up to the promise of our heritage. As we gather with our loved ones, we resolve with abiding faith and patriotism to celebrate the joys of freedom and cherish the hope and peace of a brighter future ahead.

NOW, THEREFORE, I, DONALD J. TRUMP, President of the United States of America, by virtue of the authority vested in me by the Constitution and the laws of the United States, do hereby proclaim Thursday, November 26, 2020, as a National Day of Thanksgiving. I encourage all Americans to gather, in homes and places of worship, to offer a prayer of thanks to God for our many blessings.

IN WITNESS WHEREOF, I have hereunto set my hand this twenty-fifth day of November, in the year of our Lord two thousand twenty, and of the Independence of the United States of America the two hundred and forty-fifth.

[FR Doc. 2020-26629

Filed 12-1-20; 8:45 am]

Billing code 3295-F1-P